NATIONAL CREDIT UNION ADMINISTRATION

Sunshine Act; Notice of Agency Meeting

Time and Date: 10 a.m., Thursday, March 18, 2010.

Place: Board Room, 7th Floor, Room 7047, 1775 Duke Street, Alexandria, VA 22314-3428.

Status: Open.

Matters to be Considered: 1. Proposed Rule—Parts 701, 723 and 742 of NCUA's Rules and Regulations, Regulatory Flexibility Program.

2. Proposed Rule—Parts 701, 708a and 708b of NCUA's Rules and Regulations, Fiduciary Duties at Federal Credit Unions; Mergers and Conversions of Insured Credit Unions.

3. NCUA Strategic Plan 2010-2015 for 60-day Public Comment.

4. Insurance Fund Report.

Recess: 11 a.m.

Time and Date: 11:15 a.m., Thursday, March 18, 2010.

Place: Board Room, 7th Floor, Room 7047, 1775 Duke Street, Alexandria, VA 22314-3428.

Status: Closed.

Matters to be Considered: 1. Creditor Claim Appeal. Closed pursuant to Exemption (6).

2. Consideration of Supervisory Activities (2). Closed pursuant to Exemptions (8), (9)(A)(ii) and 9(B).

3. Personnel. Closed pursuant to Exemption (6).

FOR FURTHER INFORMATION CONTACT: Mary Rupp, Secretary of the Board, Telephone: 703-518-6304.

Mary Rupp,
Board Secretary.

[FR Doc. 2010-5709 Filed 3-11-10; 4:15 pm]

BILLING CODE P